DEPARTMENT OF ENERGY

Federal Energy Regulatory Commission

18 CFR 2, 33, 365, and 366

[Docket No. AD07-2-000]

Technical Conference on Public Utility Holding Company Act of 1935 and Enactment of the Public Utility Holding Company Act of 2005; Notice of Technical Conference

February 9, 2007.

AGENCY: Federal Energy Regulatory Commission, DOE.

ACTION: Notice of Technical Conference.

SUMMARY: The Federal Energy Regulatory Commission (Commission) is holding a technical conference on March 8, 2007, to discuss certain issues raised in rulemakings issued in Commission Docket Nos. RM05-32-000 and RM05-34-000. This is the second conference being held as a follow-up to Commission Order Nos. 667 and No. 669. The Commission is now soliciting nominations for speakers at the technical conference.

DATES: Nominations must be made on or before: February 15, 2007.

FOR FURTHER INFORMATION CONTACT: Sarah McKinley, Office of External Affairs, Federal Energy Regulatory Commission, 888 First Street, NE., Washington, DC 20426, (202) 502-8004, sarah.mckinley@ferc.gov.

SUPPLEMENTARY INFORMATION: This conference addresses certain issues raised in rulemakings issued in Docket No. RM05-32-000 (70 FR 75592, December 20, 2005) and Docket No. RM05-34-000 (71 FR 1348, January 6, 2006).

Technical Conference on Public Utility Holding Company Act of 2005 and Federal Power Act Section 203 Issues

February 9, 2007.

Take notice that on March 8, 2007, a technical conference will be held at the Federal Energy Regulatory Commission to discuss certain issues raised in rulemakings issued in Docket Nos. RM05-32 and RM05-34. This is the second technical conference ¹ being held as a follow-up to the Commission's Orders No. 667 and No. 669.² The technical conference will be held from approximately 9 a.m. to 4 p.m. (EST) at the Federal Energy Regulatory Commission, 888 First Street, NE., Washington, DC 20426, in the Commission Meeting Room. Commissioners are expected to attend. All interested persons are invited to attend, and registration is not required.

¹ The first technical conference was held on December 7, 2006, and primarily focused on matters pertaining to cross subsidization; cash management programs and money pools; and exemptions, waivers and blanket authorizations set forth in Order Nos. 667 and 669.

² Repeal of the Public Utility Holding Company Act of 1935 and Enactment of the Public Utility Holding Company Act of 2005, Order No. 667, FERC Stats. & Regs. ¶ 31,197 (2005), order on reh'g, Order No. 667-A, FERC Stats. & Regs. ¶ 31,213, order on reh'g, Order No. 667-B, FERC Stats. & Regs. ¶ 31,224 (2006), reh'g pending; Transactions Subject to FPA Section 203, Order No. 669, FERC Stats. & Regs. ¶ 31,200 (2006), order on reh'g, Order No. 669-A, FERC Stats. Regs. ¶ 31,214 (2006), order on reh'g, Order No. 669-B, FERC Stats. & Regs. ¶ 31,225 (2006).

The subject of this technical conference is whether the Commission's current merger policy should be revised, in particular whether the Commission's Appendix A analysis is sufficient to identify market power concerns in today's electric industry market environment. A further notice with a detailed agenda will be issued in advance of the conference.

The Commission is now soliciting nominations for speakers at the technical conference. Persons wishing to nominate themselves as speakers should do so using this electronic link: https://www.ferc.gov/whats-new/registration/puhca-03-08-speaker-form.asp. Such nominations must be made before the close of business, Thursday, February 15, 2007, so that an agenda for the technical conference can be drafted and published.

Transcripts of the conference will be immediately available from Ace Reporting Company (202-347-3700 or 1-800-336-6646) for a fee. They will be available for the public on the Commission's eLibrary system seven calendar days after FERC receives the transcript.

A free webcast of this event will be available through http://www.ferc.gov. Anyone with Internet access who desires to view this event can do so by navigating to www.ferc.gov's Calendar of Events and locating this event in the Calendar. The event will contain a link to its webcast. The Capitol Connection provides technical support for the free webcasts. It also offers access to this event via television in the DC area and via phone bridge for a fee. If you have any questions, visit http://www.CapitolConnection.org or contact Danelle Perkowski or David Reininger at 703-993-3100.

Commission conferences are accessible under section 508 of the Rehabilitation Act of 1973. For accessibility accommodations please send an e-mail to accessibility@ferc.gov or call toll free 1-866-208-3372 (voice) or 202-208-1659 (TTY), or send a FAX to 202-208-2106 with the required accommodations.

For more information about this conference, please contact: Sarah McKinley, Office of External Affairs, Federal Energy Regulatory Commission, (202) 502-8004, sarah.mckinley@ferc.gov.

Magalie R. Salas,
Secretary.

[FR Doc. E7-2707 Filed 2-15-07; 8:45 am]

BILLING CODE 6717-01-P